DEPARTMENT OF COMMERCE

National Oceanic and Atmospheric Administration

[I.D. 072606J]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application from the University of New Hampshire (UNH) for an exemption from the days-at-sea (DAS) requirements of the Northeast (NE) Multispecies Fishery Management Plan (FMP), for the purpose of testing the ability of specific fish traps to catch haddock, contains all of the required information and warrants further consideration. The Assistant Regional Administrator has also made a preliminary determination that the activities authorized under the EFP would be consistent with the goals and objectives of the FMP. However, further review and consultation may be necessary before a final determination is made to issue the EFP. Therefore, NMFS announces that the Assistant Regional Administrator proposes to issue an EFP that would allow vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before August 16, 2006.

ADDRESSES: Comments on this notice may be submitted by e-mail. The mailbox address for providing e-mail comments is DA6_210@noaa.gov. Include in the subject line of the e-mail comment the following document identifier: “Comments on UNH Haddock Trap (DA6-210).” Written comments should be sent to Patricia A. Kurkul, Regional Administrator, NMFS, Northeast Regional Office, 1 Blackburn Drive, Gloucester, MA 01930. Mark the outside of the envelope “Comments on UNH Haddock Trap (DA6-210).” Comments may also be sent via facsimile (fax) to (978) 281-9135.

FOR FURTHER INFORMATION CONTACT: Moira Kelly, Fishery Management Specialist, phone: (978) 281-9218, fax: (978) 281-9135.

SUPPLEMENTARY INFORMATION: A complete application for an EFP was submitted by Dr. Ken La Valley of the University of New Hampshire, on July 7, 2006. The EFP would exempt one federally permitted commercial fishing vessel from the following requirement of the FMP: NE multispecies DAS requirements, specified at 50 CFR 648.82(a). This project is funded by the Northeast Consortium.

UNH has requested an exemption from the DAS requirements in order to test the effectiveness of two demersal fish trap designs, i.e., Pacific and Norwegian cod pots, modified for catching Atlantic haddock of a larger size and condition for use in the live fish market. A DAS exemption is requested in order to allow the exempted fishing vessel to economically assist in this research, because no fish will be retained or landed.

The Norwegian two-chamber fish pot has two fairly wide entrance funnels leading into the lower chamber, with a narrow entrance leading to an upper chamber. Typically, a bait bag is fixed with squid for cod on a string or longline at varying depths. This fish trap would be modified to use vertical mounted triggers to allow easy entrance while providing an increased internal volume available for fish compared to the Norwegian design. The Pacific cod pot is a 6 ft x 6 ft x 3 ft (1.83 m x 1.83 m x .91 m) design that has triggers on three sides of the pot to allow increased opportunities to enter the trap, with shallow leads leading to the tunnel eye. The Pacific trap would be modified to a collapsible version that would also incorporate vertical mounted triggers instead of horizontal triggers typically used for cod.

Haddock specific baits would also be tested during the project. In addition, an underwater video camera would be used to document haddock behavior in and around each trap design. The camera would be deployed with an onboard auxiliary group from a significant distance from test site, so as not to influence behavior with the lights.

A total of 12 traps would be deployed, and 10-14 hauls would be made, with an average soak time of 24 hrs, over 10 days. The gear testing would take place in the Gulf of Maine (GOM), northeast of the Western GOM Closure Area.

The researchers intend to target haddock, but anticipate some incidental catch of Atlantic cod, pollock, redfish, and spiny dogfish. Once caught, fish would be sorted by species, measured, weighed, and returned to the water. No fish, shellfish, or other animals would be retained. The researchers estimate that less than 1,000 lb (453.59 kg) of haddock and less than 500 lb (226.80 kg) of all incidental species would be collected and returned to the water. The intent is for this project to take place between August and November 2006.

The applicant may place requests for minor modifications and extensions to the EFP throughout the year. EFP modifications and extensions may be granted without further notice if they are deemed essential to facilitate completion of the proposed research and result in only a minimal change in the scope or impact of the initially approved EFP request. In accordance with NOAA Administrative Order 216-6, a Categorical Exclusion or other appropriate NEPA document would be completed prior to the issuance of the EFP. Further review and consultation may be necessary before a final determination is made to issue the EFP. After publication of this document in the Federal Register, the EFP, if approved, may become effective following a 15-day public comment period.

Authority: 16 U.S.C. 1801 et seq.

Dated: July 26, 2006.
James P. Burgess,
Acting Director, Office of Sustainable Fisheries, National Marine Fisheries Service.

[FR Doc. E6-12271 Filed 7-31-06; 8:45 am]

BILLING CODE 3510-22-S